DEPARTMENT OF ENERGY

Federal Energy Regulatory Commission

Notice of Commission Staff Attendance

The Federal Energy Regulatory Commission hereby gives notice that members of the Commission's staff may attend the following meeting related to the transmission planning activities of the Southern Company Services, Inc.:

2012 Southeastern Regional Transmission Planning Process (SERTP) 2nd Quarter Preliminary Expansion Plan Meeting

June 27, 2012, 10 a.m.-3 p.m., Local Time

The above-referenced meeting will be held at:

Municipal Electric Authority of Georgia Corporate Headquarters Atlanta, Georgia.

The above-referenced meeting is open to stakeholders.

Further information may be found at: www.southeasternrtp.com.

The discussions at the meeting described above may address matters at issue in the following proceeding:

Docket No. ER12-337, Mississippi Power Company.

For more information, contact Valerie Martin, Office of Energy Market Regulation, Federal Energy Regulatory Commission at (202) 502-6139 or Valerie.Martin@ferc.gov.

Dated: June 20, 2012.
Kimberly D. Bose,
Secretary.

[FR Doc. 2012-15519 Filed 6-25-12; 8:45 am]

BILLING CODE 6717-01-P